DEPARTMENT OF ENERGY

Federal Energy Regulatory Commission

[Project No. 14634-000]

New England Hydropower Company, LLC; Notice of Preliminary Permit Application Accepted for Filing and Soliciting Comments, Motions To Intervene, and Competing Applications

On September 5, 2014, the New England Hydropower Company, LLC, filed an application for a preliminary permit, pursuant to section 4(f) of the Federal Power Act (FPA), proposing to study the feasibility of the Ashton Dam Hydroelectric Project (Ashton Project or project) to be located on Blackstone River, near Cumberland, Providence County, Rhode Island. The sole purpose of a preliminary permit, if issued, is to grant the permit holder priority to file a license application during the permit term. A preliminary permit does not authorize the permit holder to perform any land-disturbing activities or otherwise enter upon lands or waters owned by others without the owners' express permission.

The proposed project would consist of the following: (1) An existing 20-foot-high, 400-foot-long masonry dam with a 250-foot-long main spillway and a 150-foot-long auxiliary spillway; (2) an existing 35-acre impoundment with a normal storage capacity of 112 acre-feet at an operating elevation of about 74.0 feet national geodetic vertical datum; (3) a new 100-foot-long, 28-foot-wide, and 6.5-foot-deep intake canal; (4) a new 7-foot-high, 13-foot-wide hydraulically-powered sluice gate, with a new 7-foot-high, 41-foot-wide trashrack with 6-inch bar spacing; (5) two new 32-foot-long, 13-foot-wide Archimedes screw generator units, with an installed capacity of 300 kilowatts; (6) a new 10-foot-high, 25.4-foot-long, 39-foot-wide concrete powerhouse containing the generator and a new gearbox and electrical controls; (7) a new above ground 830-foot-long, 13.8-kilovolt transmission line connecting the powerhouse to the distribution system owned by Narragansett Electric Company; and (8) appurtenant facilities. The estimated annual generation of the proposed Ashton Project would be about 1,613 megawatt-hours. The existing Ashton Dam and appurtenant works is owned by Rhode Island Department of Environmental Management.

Applicant Contact: Mr. Michael C. Kerr, P.O. Box 5524, Beverly Farms, MA 01915; phone: (978) 360-2547.

FERC Contact: John Ramer; phone: (202) 502-8969 or email: john.ramer@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14634-000.

More information about this project, including a copy of the application, can be viewed or printed on the “eLibrary” link of Commission's Web site at http://www.ferc.gov/docs-filing/elibrary.asp. Enter the docket number (P-14634) in the docket number field to access the document. For assistance, contact FERC Online Support.

Dated: September 17, 2014.
Kimberly D. Bose,
Secretary.

[FR Doc. 2014-22644 Filed 9-23-14; 8:45 am]

BILLING CODE 6717-01-P